DEPARTMENT OF DEFENSE

48 CFR Chapter 2

[DFARS Case 2003-D085]

Defense Federal Acquisition Regulation Supplement; Material Inspection and Receiving Report

AGENCY: Department of Defense (DoD).

ACTION: Proposed rule with request for comments.

SUMMARY: DoD is proposing to amend the Defense Federal Acquisition Regulation Supplement (DFARS) to update requirements for preparation of material inspection and receiving reports under DoD contracts. This proposed rule is a result of a transformation initiative undertaken by DoD to dramatically change the purpose and content of the DFARS.

DATES: Comments on the proposed rule should be submitted in writing to the address shown below on or before September 12, 2005, to be considered in the formation of the final rule.

ADDRESSES: You may submit comments, identified by DFARS Case 2003-D085, using any of the following methods:

• Federal eRulemaking Portal: http://www.regulations.gov. Follow the instructions for submitting comments.

• Defense Acquisition Regulations Web Site: http://emissary.acq.osd.mil/dar/dfars.nsf/pubcomm. Follow the instructions for submitting comments.

• E-mail: dfars@osd.mil. Include DFARS Case 2003-D085 in the subject line of the message.

• Fax: (703) 602-0350.

• Mail: Defense Acquisition Regulations Council, Attn: Ms. Deborah Tronic, OUSD (AT&L) DPAP (DAR), IMD 3C132, 3062 Defense Pentagon, Washington, DC 20301-3062.

• Hand Delivery/Courier: Defense Acquisition Regulations Council, Crystal Square 4, Suite 200A, 241 18th Street, Arlington, VA 22202-3402.

All comments received will be posted to http://emissary.acq.osd.mil/dar/dfars.nsf.

FOR FURTHER INFORMATION CONTACT: Ms. Deborah Tronic, (703) 602-0289.

SUPPLEMENTARY INFORMATION:

A. Background

DFARS Transformation is a major DoD initiative to dramatically change the purpose and content of the DFARS. The objective is to improve the efficiency and effectiveness of the acquisition process, while allowing the acquisition workforce the flexibility to innovate. The transformed DFARS will contain only requirements of law, DoD-wide policies, delegations of FAR authorities, deviations from FAR requirements, and policies/procedures that have a significant effect beyond the internal operating procedures of DoD or a significant cost or administrative impact on contractors or offerors. Additional information on the DFARS Transformation initiative is available at http://www.acq.osd.mil/dpap/dfars/transf.htm.

This proposed rule is a result of the DFARS Transformation initiative. The proposed changes update DFARS Appendix F requirements for preparation of DD Form 250, Material Inspection and Receiving Report. The proposed changes include—

• Clarification of requirements for marking of shipments when a contractor's certificate of conformance is used as the basis for acceptance.

• Relocation of the requirement for the contractor to provide sufficient copies of DD Form 250, from F-701 to F-103.

• Clarification that use of Wide Area WorkFlow-Receipt and Acceptance electronic form satisfies DD Form 250 distribution requirements. This is consistent with the clause at DFARS 252.246-7000, Material Inspection and Receiving Report.

• Deletion of procedures for documenting Government contract quality assurance performed at a subcontractor's facility and for distribution and correction of DD Form 250-1 documents. This text will be relocated to the new DFARS companion resource, Procedures, Guidance, and Information (PGI), available at http://www.acq.osd.mil/dpap/dars/pgi.

This rule was not subject to Office of Management and Budget review under Executive Order 12866, dated September 30, 1993.

B. Regulatory Flexibility Act

DoD does not expect this rule to have a significant economic impact on a substantial number of small entities within the meaning of the Regulatory Flexibility Act, 5 U.S.C. 601, et seq., because the rule makes no significant change to DoD policy for preparation and use of material inspection and receiving reports. Therefore, DoD has not performed an initial regulatory flexibility analysis. DoD invites comments from small businesses and other interested parties. DoD also will consider comments from small entities concerning the affected DFARS subpart in accordance with 5 U.S.C. 610. Such comments should be submitted separately and should cite DFARS Case 2003-D085.

C. Paperwork Reduction Act

The information collection requirements of DD Form 250, Material Inspection and Receiving Report, have been approved by the Office of Management and Budget under Control Number 0704-0248, for use through March 31, 2008.

List of Subjects in 48 CFR Chapter 2

Government procurement.

Michele P. Peterson,
Editor, Defense Acquisition Regulations System.

Therefore, DoD proposes to amend 48 CFR Appendix F to Chapter 2 as follows:

1. The authority citation for 48 CFR Appendix F to subchapter I continues to read as follows:

Authority: 41 U.S.C. 421 and 48 CFR Chapter 1.

Appendix F to Chapter 2—Material Inspection and Receiving Report

2. Appendix F to Chapter 2 is amended in Part 1, Section F-103, by revising paragraph (c) to read as follows:

F-103 Use.

* * * * *

(c) The contractor prepares the MIRR, except for entries that an authorized Government representative is required to complete. The contractor shall furnish sufficient copies of the completed form, as directed by the Government representative.

* * * * *

3. Appendix F to Chapter 2 is amended by revising Part 2 to read as follows:

PART 2—CONTRACT QUALITY ASSURANCE ON SHIPMENTS BETWEEN CONTRACTORS

F-201 Procedures.

Follow the procedures at PGI F-201 for evidence of required Government contract quality assurance at a subcontractor's facility.

4. Appendix F to Chapter 2 is amended in Part 3, Section F-301, by revising paragraph (b)(21)(iii) in the first sentence and paragraph (b)(21)(iv)(D) introductory text to read as follows:

F-301 Preparation instructions.

* * * * *

(b) * * *

(21) * * *

(iii) When contract terms provide for use of Certificate of Conformance and shipment is made under these terms, the contractor shall enter in capital letters “CERTIFICATE OF CONFORMANCE” in Block 21a on the next line following the CQA and acceptance statements. * * *

(iv) * * *

(D) When Certificate of Conformance procedures apply, inspection or inspection and acceptance are at source, and the contractor's Certificate of Conformance is required, the contractor shall enter in capital letters “CERTIFICATE OF CONFORMANCE” as required by paragraph (b)(21)(iii) of this section.

* * * * *

5. Appendix F to Chapter 2 is amended in Part 4, Section F-401, by revising paragraph (a) to read as follows:

F-401 Distribution.

(a) The contractor is responsible for distributing the DD Form 250, including mailing and payment of postage. Use of Wide Area WorkFlow-Receipt and Acceptance electronic form satisfies the distribution requirements of this section.

* * * * *

6. Appendix F to Chapter 2 is amended by revising Part 7 to read as follows:

PART 7—DISTRIBUTION OF THE DD FORM 250-1

F-701 Distribution.

Follow the procedures at PGI F-701 for distribution of DD Form 250-1.

F-702 Corrected DD Form 250-1.

Follow the procedures at PGI F-702 when corrections to DD Form 250-1 are needed.

[FR Doc. 05-13304 Filed 7-11-05; 8:45 am]

BILLING CODE 5001-08-P